DEPARTMENT OF DEFENSE

Office of the Secretary

Reserve Forces Policy Board

AGENCY: Department of Defense.

ACTION: Notice of Advisory Committee Meeting.

SUMMARY: Pursuant to the Federal Advisory Committee Act of 1972 (5 U.S.C., Appendix, as amended), the Sunshine in the Government Act of 1976 (5 U.S.C. section 552b, as amended), and 41 CFR 102-3.150, the Department of Defense announces the following Federal advisory committee meeting.

Name of Committee: Reserve Forces Policy Board (RFPB).

Date: June 20-21, 2007.

Time: (20th) 8 a.m.-4:30 p.m.; (21st) 8 a.m.-3 p.m.

Location: Meeting address is Pentagon Room 3E733, Arlington, VA. Mailing address is Reserve Forces Policy Board, 7300 Defense Pentagon, Washington, DC 20301-7300.

Purpose of the Meeting: An open meeting of the Reserve Forces Policy Board.

Agenda: Discussion of long-range issues relevant to the Reserve Components.

Meeting Accessibility: Pursuant to 5 U.S.C. 552b, as amended, and 41 CFR 102-3.140 through 102-3.165, and the availability of space this meeting is open to the public. To request a seat, please contact 703-697-4486,or by e-mail, marjorie.davis@osd.mil and/or donald.ahern@osd.mil.

Written Statements: Pursuant to 41 CFR 102-3.105(j) and 102-3.140, the public or interested organizations may submit written statements to the membership of the Reserve Forces Policy Board at any time or in response to the stated agenda of a planned meeting. Written statements should be submitted to the Reserve Forces Policy Board's Designated Federal Officer. The designated Federal Officer's contact information can be obtained from the GSA's FACA Database https://www.fido.gov/facadatabase/public.asp.

Written statements that do not pertain to a scheduled meeting of the Reserve Forces Policy Board may be submitted at any time. However, if individual comments pertain to a specific topic being discussed at a planned meeting then these statements must be submitted no later than five business days prior to the meeting in question. The Designated Federal Officer will review all submitted written statements and provide copies to all the committee members.

FOR FURTHER INFORMATION CONTACT: Col. Marjorie Davis, Designated Federal Officer, (703) 697-4486 (Voice), (703) 614-0504 (Facsimile), marjorie.davis@osd.mil. Mailing address is Reserve Forces Policy Board, 7300 Defense Pentagon, Washington, DC 20301-7300.

Dated: May 31, 207.
L.M. Bynum,
Alternate OSD Federal Register, Liaison Officer, Department of Defense.

[FR Doc. 07-2804 Filed 6-5-07; 8:45 am]

BILLING CODE 5001-06-M